DEPARTMENT OF EDUCATION

Office of Safe and Drug-Free Schools, Overview Information, Partnerships in Character Education; Notice Inviting Applications for New Awards for Fiscal Year (FY) 2006

Catalog of Federal Domestic Assistance (CFDA) Number: 84.215S

DATES

Applications Available: February 23, 2006.

Deadline for Transmittal of Applications: April 10, 2006.

Deadline for Intergovernmental Review: June 12, 2006.

Eligible Applicants: Eligible applicants under this competition are:

(a)(1) A State educational agency (SEA) in partnership with one or more local educational agencies (LEAs); or

(2) An SEA in partnership with one or more LEAs and nonprofit organizations or entities, including an institution of higher education (IHE); and

(b)(1) An LEA or consortium of LEAs; or

(2) An LEA in partnership with one or more nonprofit organizations or entities, including an IHE.

Estimated Available Funds: $16,000,000. Contingent upon the availability of funds, we may make additional awards in FY 2007 and FY 2008, from the rank-ordered list of unfunded applications from this competition.

Estimated Range of Awards: For SEAs, $500,000-$750,000. For LEAs, $250,000-$500,000. We anticipate that applicants that request funding at the higher end of these ranges are planning to implement experimental or quasi-experimental evaluation designs.

Estimated Average Size of Awards: For SEAs, $600,000 for each 12-month budget period. For LEAs, $350,000 for each 12-month budget period.

Minimum Award: Pursuant to Section 5431(a)(4) of the Elementary and Secondary Education Act of 1965, as amended by the No Child Left Behind Act of 2001 (ESEA) (20 U.S.C. 7247), we will reject any application from an SEA that proposes a total budget for a single 12-month budget period that is less than $500,000. This restriction does not apply to applications from LEAs.

Estimated Number of Awards: 35.

Note: The Department is not bound by any estimates in this notice.

Project Period: Up to 48 months, of which no more than 12 months may be used for planning and program design.

Full Text of Announcement

I. Funding Opportunity Description

Purpose of Program: Under this program we provide Federal financial assistance to eligible entities to assist them in designing and implementing character education programs that are able to be integrated into classroom instruction and to be consistent with state academic content standards and are able to be carried out in conjunction with other educational reform efforts. These character education programs must take into consideration the view of parents, students, students with disabilities (including those with mental or physical disabilities) and other members of the community, including members of private and nonprofit organizations.

Priorities: This competition includes one absolute priority and one invitational priority. These priorities are as follows.

Absolute Priority: In accordance with 34 CFR 75.105(b)(2)(iv), this priority is from Title V, Part D, Subpart 3, Section 5431 of the ESEA (20 U.S.C. 7247). For FY 2006 and any subsequent year in which we make awards based on the list of unfunded applications from this competition, this priority is an absolute priority. To be considered for funding, each applicant must address the absolute priority. Under 34 CFR 75.105(c)(3) we consider only applications that meet this priority.

This priority is: the design and implementation of character education programs that:

(A) Are able to be integrated into classroom instruction and to be consistent with State academic content standards; and

(B) Are able to be carried out in conjunction with other educational reform efforts.

Within this absolute priority, we are particularly interested in applications that address the following invitational priority.

Invitational Priority: For FY 2006 and any subsequent year in which we make awards based on the list of unfunded applications from this competition, this priority is an invitational priority. Under 34 CFR 75.105(c)(1) we do not give an application that meets this invitational priority a competitive or absolute preference over other applications.

The Secretary is particularly interested in projects proposing an evaluation plan that is based on rigorous scientifically based research methods to assess the effectiveness of a particular intervention. The Secretary intends that grantees responding to this priority will work with the Department to determine whether the project produces meaningful effects on student achievement or teacher performance.

Evaluation methods using an experimental design are best for determining project effectiveness. Thus, when feasible, the project should use an experimental design under which participants—e.g., students, teachers, classrooms, or schools—are randomly assigned to participate in the project activities being evaluated or to a control group that does not participate in the project activities being evaluated. If random assignment is not feasible, the project may use a quasi-experimental design with carefully matched comparison conditions. This alternative design attempts to approximate a randomly assigned control group by matching participants—e.g., students, teachers, classrooms, or schools—with non-participants having similar pre-program characteristics.

In cases where random assignment is not possible and participation in the intervention is determined by a specified cutting point on a quantified continuum of scores, regression discontinuity designs may be employed.

For projects that are focused on special populations in which sufficient numbers of participants are not available to support random assignment or matched comparison group designs, single-subject designs such as multiple baseline or treatment-reversal or interrupted time series that are capable of demonstrating causal relationships can be employed.

Proposed evaluation strategies that use neither experimental designs with random assignment nor quasi-experimental designs using a matched comparison group nor regression discontinuity designs will not be considered responsive to the priority when sufficient numbers of participants are available to support these designs. Evaluation strategies that involve too small a number of participants to support group designs must be capable of demonstrating the causal effects of an intervention or program on those participants.

The proposed evaluation plan should describe how the project evaluator will collect—before the project intervention commences and after it ends—valid and reliable data that measure the impact of participation in the program or in the comparison group.

In determining the quality of the proposed evaluation method, we will consider the extent to which the applicant presents a feasible, credible plan that includes details such as the following:

(1) The type of design to be used (that is, random assignment or matched comparison). If matched comparison, include in the plan a discussion of why random assignment is not feasible.

(2) Outcomes to be measured.

(3) A discussion of how the applicant plans to assign students, teachers, classrooms, or schools to the project and control group or match them for comparison with other students, teachers, classrooms, or schools.

(4) A proposed evaluator, preferably independent, with the necessary background and technical expertise to carry out the proposed evaluation. An independent evaluator does not have any authority over the project and is not involved in its implementation.

Definitions

As used in this notice—Scientifically based research (section 9101(37) NCLB):

(A) Means research that involves the application of rigorous, systematic, and objective procedures to obtain reliable and valid knowledge relevant to education activities and programs; and

(B) Includes research that—

(i) Employs systematic, empirical methods that draw on observation or experiment;

(ii) Involves rigorous data analyses that are adequate to test the stated hypotheses and justify the general conclusion drawn;

(iii) Relies on measurements or observational methods or observational methods that provide reliable and valid data across evaluators and observers, across multiple measurements and observations, and across studies by the same or different investigators;

(iv) Is evaluated using experimental or quasi-experimental designs in which individuals, entities, programs, or activities are assigned to different conditions and with appropriate controls to evaluate the effects of the condition of interest, with a preference for random-assignment experiments, or other designs to the extent that those designs contain within-condition or across-condition controls;

(v) Ensures that experimental studies are presented in sufficient detail and clarity to allow for replication or, at a minimum, offer the opportunity to build systematically on their findings; and

(vi) Has been accepted by a peer-reviewed journal or approved by a panel of independent experts through a comparably rigorous, objective, and scientific review.

Random assignment or experimental design means random assignment of students, teachers, classrooms, or schools to participate in a project being evaluated (treatment group) or not participate in the project (control group). The effect of the project is the difference in outcomes between the treatment and control groups.

Quasi experimental designs include several designs that attempt to approximate a random assignment design.

Carefully matched comparison groups design means a quasi-experimental design in which project participants are matched with non-participants based on key characteristics that are thought to be related to the outcome.

Regression discontinuity design means a quasi-experimental design that closely approximates an experimental design. In a regression discontinuity design, participants are assigned to a treatment or control group based on a numerical rating or score of a variable unrelated to the treatment such as the rating of an application for funding. Eligible students, teachers, classrooms, or schools above a certain score (“cut score”) are assigned to the treatment group and those below the score of applicants' proposal for funding, the (“cut score”) are assigned to the treatment group and those below the score are assigned to the control group. In the case of the scores of applicants' proposals for funding, the “cut score” is established at the point where the program funds available are exhausted.

Single subject design means a design that relies on the comparison of treatment effects on a single subject or group of single subjects. There is little confidence that findings based on this design would be the same for other members of the population.

Treatment reversal design means a single subject design in which a pre-treatment or baseline outcome measurement is compared with a post-treatment measure. Treatment would then be stopped for a period of time, a second baseline measure of the outcome would be taken, followed by a second application of the treatment or a different treatment. For example, this design might be used to evaluate a behavior modification program for disabled students with behavior disorders.

Multiple baseline design means a single subject design to address concerns about the effects of normal development, timing of the treatment, and amount of the treatment with treatment-reversal designs by using a varying time schedule for introduction of the treatment and/or treatments of different lengths or intensity.

Interrupted time series design means a quasi-experimental design in which the outcome of interest is measured multiple times before and after the treatment for program participants only.

Program Authority: 20 U.S.C. 7247.

Applicable Regulations: (a) The Education Department General Administrative Regulations (EDGAR) in 34 CFR parts 74, 75, 77, 79, 80, 81, 82, 84, 85, 86, 97, 98, 99, and 299.

Note: The regulations in 34 CFR part 79 apply to all applicants except federally-recognized Indian tribes.

Note: The regulations in 34 CFR part 86 apply to IHEs only.

II. Award Information

Award Information

Type of Award: Discretionary grants.

Estimated Available Funds: $16,000,000. Contingent upon the availability of funds, we may make additional awards in FY 2007 and FY 2008 from the rank-ordered list of unfunded applications from this competition.

Estimated Range of Awards: For SEAs, $500,000-$750,000. For LEAs, $250,000-$500,000. We anticipate that applicants that request funding at the higher end of these ranges are planning to implement experimental or quasi-experimental evaluation designs.

Estimated Average Size of Awards: For SEAs, $600,000 for each 12-month budget period. For LEAs, $350,000 for each 12-month budget period.

Minimum Award: Pursuant to Section 5431(a)(4) of the ESEA, we will reject any application from an SEA that proposes a total budget for a single budget period that is less than $500,000. This restriction does not apply to applications from LEAs.

Estimated Number of Awards: 35.

Note: The Department is not bound by any estimates in this notice.

Project Period: Up to 48 months, of which no more than 12 months may be used for planning and program design.

III. Eligibility Information

1. Eligible Applicants: Eligible applicants under this competition are:

(a)(1) An SEA in partnership with one or more LEAs; or

(2) An SEA in partnership with one or more LEAs and nonprofit organizations or entities, including an IHE; and

(b)(1) An LEA or consortium of LEAs; or

(2) An LEA in partnership with one or more nonprofit organizations or entities, including an IHE.

2. Cost Sharing or Matching: This competition does not involve cost sharing or matching.

IV. Application and Submission Information

1. Address to Request Application Package: Sharon J. Burton, U.S. Department of Education, 400 Maryland Avenue, SW., room 3E322, Washington, DC 20202. Telephone: (202) 205-8122, FAX: (202) 260-7767 or by e-mail: sharon.burton@ed.gov.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission:

(a) Statutory Application Requirements: Each application for a grant under this program must include information that: (1) Demonstrates that the program for which the grant is sought has clear objectives that are based on scientifically based research; (2) describes any partnerships or collaborative efforts among the organizations and entities comprising the eligible entity; (3) describes the activities that will be carried out with the grant funds and how such activities will meet the project objectives, including (i) how parents, students, students with disabilities (including those with mental or physical disabilities), and other members of the community, including members of private and nonprofit organizations, will be involved in the design and implementation of the program and how the eligible entity will work with the larger community to increase the reach and promise of the program; (ii) curriculum and instructional practices that will be used or developed; and (iii) methods of teacher training and parent education that will be used or developed; (4) describes how the program for which the grant is sought will be linked to other efforts to improve academic achievement, including (i) broader educational reforms that are being instituted by the eligible entity or its partners and (ii) State academic content standards; and (5) describes how the eligible entity will evaluate the success of its program based on the project objectives.

Factors that may be considered in evaluating the success of programs funded include the following: Discipline issues, student academic achievement, participation in extracurricular activities, parental and community involvement, faculty and administration involvement, student and staff morale, and overall improvements in school climate for all students, including students with disabilities.

In addition, any application from an SEA must include information that describes how the SEA (1) will provide technical and professional assistance to its LEA partners in the development and implementation of character education programs; and (2) will assist other interested LEAs that are not members of the original partnership in designing and establishing character education programs.

Each eligible entity receiving a grant must provide, to the extent feasible and appropriate, for the participation of students and teachers in private elementary and secondary schools in the funded activities.

(b) Other Application Requirements: Additional requirements concerning the content of an application, together with the forms you must submit, are in the application package for this competition.

(c) Page Limit: The application narrative (Part III of the application) is where you, the applicant, address the selection criteria that reviewers use to evaluate your application. It is strongly suggested that you limit Part III to the equivalent of no more than 25 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to the title page, the Application for Federal Assistance (SF 424), the one-page abstract, the budget summary form (ED 524), and the narrative budget justification, any curriculum vitae, the bibliography of literature cited, or the assurances and certifications.

3. Submission Dates and Times:

Applications Available: February 23, 2006.

Deadline for Transmittal of Applications: April 10, 2006. Applications for grants under this program, Partnerships in Character Education, may be submitted electronically using the Grants.gov Apply site (Grants.gov), or in paper format by mail or hand delivery. For information (including dates and times) about how to submit your application electronically, or by mail or hand delivery, please refer to section IV. 6. Other Submission Requirements.

We do not consider an application that does not comply with the deadline requirements.

Deadline for Intergovernmental Review: June 12, 2006.

4. Intergovernmental Review: This competition is subject to Executive Order 12372 and the regulations in 34 part CFR 79. Information about Intergovernmental Review of Federal Competitions under Executive Order 12372 is in the application package for this competition.

5. Funding Restrictions: An SEA receiving a grant may use no more than 3 percent of the grant funds, each year, for administrative purposes. The remainder of these funds may be used for (a) collaborative initiatives with and between LEAs and schools; (b) the preparation or purchase of materials, and teacher training; (c) providing assistance to LEAs, schools or IHEs; and (d) technical assistance and evaluation.

The regulations on determining allowable costs are in 34 CFR part 80. We reference regulations outlining additional funding restrictions in the Applicable Regulations sections of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2006. The Partnerships in Character Education Program-CFDA Number 84.215S is one of the programs included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for the Partnerships in Character Education Program at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (SF 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.215S), 400 Maryland Avenue, SW., Washington, DC 20202-4260,

or

By mail through a commercial carrier: U.S. Department of Education, Application Control Center—Stop 4260, Attention: (CFDA Number 84.215S), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.215S), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (SF 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are in the application package.

2. Review and Selection Process: Additional factors we consider in selecting an application for an award are in 20 U.S.C. 7247. In making selections for funding, we also will ensure, to the extent practicable, that the projects for which we provide funding are equitably distributed among the geographic regions of the United States, and among urban, suburban, and rural areas.

VI. Award Administration Information

1. Award Notices: If your application is successful, we notify your U.S. Representatives and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. The Secretary will also use this information to respond to reporting requirements concerning this program established in section 5431(h) of the ESEA (20 U.S.C. 7247).

4. Performance Measure: We have established one performance indicator for the Partnerships in Character Education Program. The indicator is: Partnerships in Character Education Program grantees will demonstrate predicted student effects through valid, rigorous evaluations. Consequently, applicants for a grant under this program are advised to give careful consideration to this measure in conceptualizing the design, implementation, and evaluation of their proposed project. If funded, applicants will be asked to collect and report data in their annual performance reports on evaluation outcomes. The Secretary will also use this information to respond to the reporting requirements concerning this program established in section 5431(h) of the ESEA (20 U.S.C. 7247). We will track this indicator through the use of the following measure. This measure is: the proportion of projects funded under this competition demonstrating predicted student effects through valid, rigorous evaluations will increase.

VII. Agency Contact

FOR FURTHER INFORMATION CONTACT: Sharon J. Burton, U.S. Department of Education, 400 Maryland Avenue, SW., room 3E322, Washington, DC 20202. Telephone: (202) 205-8122, FAX: (202) 260-7767 or by e-mail: sharon.burton@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 17, 2006.
Deborah A. Price,
Assistant Deputy Secretary for Safe and Drug-Free Schools.

[FR Doc. E6-2582 Filed 2-22-06; 8:45 am]

BILLING CODE 4000-01-P